DEPARTMENT OF COMMERCE

National Institute of Standards and Technology

National Advisory Committee on Windstorm Impact Reduction Meetings

AGENCY: National Institute of Standards and Technology, Department of Commerce.

ACTION: Notice of open meetings.

SUMMARY: The National Advisory Committee on Windstorm Impact Reduction (NACWIR or Committee), will hold three upcoming meetings continuing the work of the Committee. Interested members of the public will be able to view the video conferences and participate from remote locations by calling in to a central phone number. The final agendas and any meeting materials will be posted on the NWIRP Web site at https://www.nist.gov/el/materials-and-structural-systems-division-73100/national-windstorm-impact-reduction-program-1.

DATES: The NACWIR will hold meetings (1) via video conference on Monday, July 31, 2017, from 1:00 p.m. until 4:00 p.m. Eastern Time; (2) in person and via video conference on Wednesday, August 23, and Thursday, August 24, 2017, from 9:00 a.m. to 5:00 p.m. Eastern Time; and (3) via video conference on Monday, September 18, 2017, from 9:00 a.m. to 12:00 p.m. Eastern Time. All meetings will be open to the public.

ADDRESSES: The August meeting will be held in Building 215, Rm. C103 at the National Institute of Standards and Technology. The address is 100 Bureau Dr., Gaithersburg, MD 20899-1070. Questions regarding the meetings should be sent to the National Windstorm Impact Reduction Program Director, National Institute of Standards and Technology (NIST), 100 Bureau Drive, Mail Stop 8611, Gaithersburg, Maryland 20899. For instructions on how to participate in each meeting, please see the SUPPLEMENTARY INFORMATION section of this notice.

FOR FURTHER INFORMATION CONTACT: Steve Potts, Management and Program Analyst, NWIRP, Engineering Laboratory, NIST, 100 Bureau Drive, Mail Stop 8611, Gaithersburg, Maryland 20899. He can also be contacted by email at Stephen.potts@nist.gov; or by phone at (301) 975-5412.

SUPPLEMENTARY INFORMATION: The NACWIR was established in accordance with the requirements of the National Windstorm Impact Reduction Act Reauthorization of 2015, Public Law 114-52. The NACWIR is charged with offering assessments and recommendations on—

• Trends and developments in the natural, engineering, and social sciences and practices of windstorm impact mitigation;

• The priorities of the Strategic Plan for the National Windstorm Impact Reduction Program (NWIRP or Program);

• The coordination of the Program;

• The effectiveness of the Program in meeting its purposes; and

• Any revisions to the Program which may be necessary.

Background information on NWIRP and the Committee is available at https://www.nist.gov/news-events/news/2016/07/nist-leads-federal-effort-save-lives-and-property-windstorms.

July Meeting

Pursuant to the Federal Advisory Committee Act, as amended, 5 U.S.C. App., notice is hereby given that the NACWIR will hold an open meeting via video conference on Monday, July 31, 2017, from 1:00 p.m. to 4:00 p.m. Eastern Time. The primary purpose of the meeting will be to assess and develop recommendations on (1) the priorities of the Draft Strategic Plan for the NWIRP, and (2) trends and developments in the natural, engineering, and social sciences and practices of windstorm impact mitigation. The agenda and meeting materials will be posted on the NACWIR Web site at https://www.nist.gov/el/mssd/nwirp/national-advisory-committee-windstorm-impact-reduction.

All participants in the meeting are required to pre-register. Anyone wishing to participate must register by 5:00 p.m. Eastern Time, Monday, July 24, 2017. Please submit your first and last name, email address, and phone number to Steve Potts at Stephen.potts@nist.gov or (301) 975-5412. After pre-registering, participants will be provided with detailed instructions on how to join the video conference remotely. Approximately 15 minutes will be reserved from 3:35 p.m.-3:50 p.m. Eastern Time for public comments. Speaking times will be assigned on a first-come, first-served basis. The amount of time per speaker will be determined by the number of requests received, but is likely to be about three minutes each. Questions from the public will not be considered during this period. All those wishing to speak must submit their request by email to the attention of Mr. Steve Potts, stephen.potts@nist.gov by 5:00 p.m. Eastern time, Monday, July 24, 2017. Speakers who wish to expand upon their oral statements, those who had wished to speak but could not be accommodated, and those who were unable to participate are invited to submit written statements to NACWIR, National Institute of Standards and Technology, 100 Bureau Drive, MS 8611, Gaithersburg, Maryland 20899, or electronically by email to stephen.potts@nist.gov.

August Meeting

Pursuant to the Federal Advisory Committee Act, as amended, 5 U.S.C. App., notice is hereby given that the NACWIR will meet in person and via video conference on Wednesday, August 23, and Thursday, August 24, 2017, from 9:00 a.m. to 5:00 p.m. Eastern Time. The meeting will be open to the public. The primary purpose of the meeting will be to assess and develop recommendations on: (1) The coordination of the Program; (2) the effectiveness of the Program in meeting its purposes; and (3) any revisions to the Program which may be necessary. The agenda may change to accommodate Committee business. The agenda and meeting materials will be posted on the NACWIR Web site at https://www.nist.gov/el/mssd/nwirp/national-advisory-committee-windstorm-impact-reduction.

All participants in the meeting are required to pre-register. Anyone wishing to participate must register by 5:00 p.m. Eastern Time, Wednesday, August 16, 2017. To participate in the video conference, please submit your first and last name, email address, and phone number to Steve Potts at Stephen.potts@nist.gov or (301) 975-5412. After pre-registering, participants will be provided with detailed instructions on how to join the video conference remotely.

The meeting will be held in Building 215, Rm. C103 at the National Institute of Standards and Technology. The address is 100 Bureau Dr., Gaithersburg, MD 20899-1070. All visitors to the NIST site are required to pre-register to be admitted. To attend the meeting in person, please submit your full name, email address, and phone number to Steve Potts. Non-U.S. citizens must submit additional information; please contact Mr. Steve Potts. Mr. Potts' email address is stephen.potts@nist.gov and his phone number is (301) 975-5412. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information please visit: http://www.nist.gov/public_affairs/visitor/.

Individuals and representatives of organizations who would like to offer comments and suggestions related to the Committee's affairs are invited to request a place on the agenda. On August 23, 2017, approximately fifteen minutes will be reserved near the end of the day for public comments, and speaking times will be assigned on a first-come, first-serve basis. The amount of time per speaker will be determined by the number of requests received, but is likely to be about three minutes each. Questions from the public will not be considered during this period. All those wishing to speak must submit their request by email to the attention of Mr. Steve Potts, stephen.potts@nist.gov by 5:00 p.m. Eastern time, Wednesday, August 16, 2017.

Speakers who wish to expand upon their oral statements, those who had wished to speak but could not be accommodated, and those who were unable to participate are invited to submit written statements to NACWIR, National Institute of Standards and Technology, 100 Bureau Drive, MS 8611, Gaithersburg, Maryland 20899, or electronically by email to stephen.potts@nist.gov.

September Meeting

Pursuant to the Federal Advisory Committee Act, as amended, 5 U.S.C. App., notice is hereby given that the NACWIR will hold an open meeting via video conference on Monday, September 18, 2017, from 1:00 p.m. to 4:00 p.m. Eastern Time. The primary purpose of the meeting will be to assess and develop recommendations on: (1) The coordination of the National Windstorm Impact Reduction Program (Program); (2) the effectiveness of the Program in meeting its purposes; and (3) any revisions to the Program which may be necessary. The agenda and meeting materials will be posted on the NACWIR Web site at https://www.nist.gov/el/mssd/nwirp/national-advisory-committee-windstorm-impact-reduction.

All participants in the meeting are required to pre-register. Anyone wishing to participate must register by 5:00 p.m. Eastern Time, Monday, September 11, 2017. Please submit your first and last name, email address, and phone number to Steve Potts at Stephen.potts@nist.gov or (301) 975-5412. After pre-registering, participants will be provided with detailed instructions on how to join the video conference remotely. Approximately 15 minutes will be reserved from 3:35 p.m.-3:50 p.m. Eastern Time for public comments. Speaking times will be assigned on a first-come, first-served basis. The amount of time per speaker will be determined by the number of requests received but is likely to be about three minutes each. Questions from the public will not be considered during this period. All those wishing to speak must submit their request by email to the attention of Mr. Steve Potts, stephen.potts@nist.gov by 5:00 p.m. Eastern time, Monday, September 11, 2017. Speakers who wish to expand upon their oral statements, those who had wished to speak but could not be accommodated, and those who were unable to participate are invited to submit written statements to NACWIR, National Institute of Standards and Technology, 100 Bureau Drive, MS 8611, Gaithersburg, Maryland 20899, or electronically by email to stephen.potts@nist.gov.

Kevin Kimball,
NIST Chief of Staff.

[FR Doc. 2017-14719 Filed 7-12-17; 8:45 am]

BILLING CODE 3510-13-P